DEPARTMENT OF THE INTERIOR

Fish and Wildlife Service

[FWS-R4-ES-2012-N0143: 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by August 8, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

If you wish to comment, you may submit comments by mail or hand-delivery to the Fish and Wildlife Service's Regional Office (see ADDRESSES section) or via electronic mail (email) to permitsR4ES@fws.gov. Please include your name and return address in your email message. If you do not receive a confirmation from the Fish and Wildlife Service that we have received your email message, contact us directly at the telephone number listed above (see FOR FURTHER INFORMATION CONTACT section).

Before including your address, telephone number, email address, or other personal identifying information in your comments, you should be aware that your entire comment—including your personal identifying information—may be made publicly available at any time. While you can ask us in your comments to withhold your personal identifying information from public review, we cannot guarantee that we will be able to do so.

Permit Application Number: TE-71535A

Applicant: Misty Hamilton, Lowmansville, Kentucky

Applicant requests reauthorization to conduct scientific studies and surveys on the following species:

Indiana bat Myotis sodalis,

Gray bat Myotis grisescens,

Virginia big-eared bat Corynorhinus townsendii virginianus.

These surveys will be conducted in Kentucky.

Permit Application Number: TE-71613A

Applicant: University of Tennessee, Knoxville, Tennessee

Applicant requests reauthorization to conduct scientific studies and surveys on Indiana bats (Myotis sodalis) and Gray bats (Myotis grisescens). These surveys will be conducted in Tennessee and Missouri.

Permit Application Number: TE-71851A

Applicant: United States Geological Survey, Southeast Ecology Center, Gainesville, Florida

Applicant requests authorization to conduct scientific research on the following species of freshwater mussels:

Fat threeridge—Amblema neislerii

Shinyrayed pocketbook—Lampsilis subangulata

Gulf moccasinshell—Medionidus penicillatus

Ochlockonee moccasinshell—Medionidua simpsonianus

Oval pigtoe—Pleurobema pyriforme

This research project will be conducted in Alabama, Georgia, and Florida.

Permit Application Number: TE-71854A

Applicant: David Eargle, Columbia, South Carolina

Applicant requests authorization to conduct presence/absence surveys and retain remnant shells of the Carolina Heelsplitter (Lasmigona decorata) throughout North Carolina and South Carolina.

Permit Application Number: TE-73096A

Applicant: Steve Orzell, Avon Park, Florida

Applicant requests authorization to collect a small number of leaves from a limited number of Lupinus aridorum (scrub lupine) to conduct genetic research. This activity will occur on the McLeod Unit of the Lakes Wales Ridge National Wildlife Refuge, Polk County, Florida.

Permit Application Number: TE-129703

Applicant: HMB Professional Engineers, Frankfort, Kentucky

Applicant requests amendment to authorization to conduct presence/absence surveys for 2 bat species, 14 fish species, 34 fresh-water mussel species, 2 snail species, 1 insect species, and 2 plant species in the State of Ohio.

Permit Application Number: TE-76082A

Applicant: Hopi Hoekstra, Harvard University, Cambridge, Massachusetts

Applicant requests authorization to capture and temporarily house Anastasia Island beach mice (Peromyscus polionotus phasma) for the purpose of captive breeding and reintroduction. The mice will be captured in Florida and housed at Harvard University.

Permit Application Number: TE-171577

Applicant: Chaffee Maneuver Training Center, Arkansas Army National Guard, Fort Chaffee, Arkansas

Applicant requests reauthorization to capture, mark and release American burying beetles (Nicrophorus americanus) for the purpose of scientific study and species recovery efforts. These activities will be conducted on the Chaffee Maneuver Training Center, Arkansas Army National Guard, Fort Chaffee, Arkansas.

Permit Application Number: TE-76565A

Applicant: Rebecca Ijames, Central City, Kentucky

Applicant requests reauthorization to conduct scientific studies and surveys on the following species:

Indiana bat Myotis sodalis,

Gray bat Myotis grisescens,

Virginia big-eared bat Corynorhinus townsendii virginianus.

These surveys will be conducted in Kentucky.

Dated: June 22, 2012.
Mark J. Musaus,
Acting Regional Director.

[FR Doc. 2012-16665 Filed 7-6-12; 8:45 am]

BILLING CODE 4310-55-P